DEPARTMENT OF COMMERCE

Foreign-Trade Zones Board

[B-44-2023]

Foreign-Trade Zone (FTZ) 49, Notification of Proposed Production Activity; Getinge Group Logistics Americas LLC; (Health Care Products and Kits); Dayton, New Jersey

Getinge Group Logistics Americas LLC submitted a notification of proposed production activity to the FTZ Board (the Board) for its facility in Dayton, New Jersey within Subzone 49W. The notification conforming to the requirements of the Board's regulations (15 CFR 400.22) was received on July 7, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: maintenance kits (printer; heater; sterilizer); water utility connector kits; caster kits; electrical parts service kits for boilers; sterilizer steam purifiers; steam and water gun sets; printer replacement kits; valve assembly kits; gas, oil, and water pump assemblies; gas, oil, air, and water filters and filter assemblies; liquid applicator attachments; repair kits (check valve; alarm; temperature probe; electronic display); voltage conversion kits; timer accessory packages; shelf add-on kits; and, surgical light assemblies with mounting and positioning hardware (duty rate ranges from duty-free to 5.7%, and from 15¢ each + 4% + 2.5¢/jewel to 45¢ each + 6.4% + 2.5¢/jewel).

The proposed foreign-status materials and components include: plastic components (hose assemblies; gaskets; O-rings; door seals; end caps; cover plates); rubber components (hose assemblies; gaskets; O-rings; door seals); labels (paper; plastic); zip lock bags; printer paper; preprinted and unprinted paper tags and labels; paper gaskets; technical drawings and manuals; sealing graphite; fiberglass insulation; tubing ferrules; steel and stainless steel components (collars; couplings; studs; spacers; reducers; bushings; chain connectors); stainless steel components (screws; bolts; nuts; washers; screen mesh); steel components (washers; springs); retaining rings; roll pins; hose clamps, collars, and retaining clips; copper components (tubing; pipe; sterilizer fittings); brass components (pipe bushings; nipples; pigtails; unions; elbows; couplings; plugs; caps; tees; nuts; solenoid valves); bronze components (washers; ball valves); brass, bronze, and copper tanks and tank fittings; aluminum clamps and collars; base metal components (keys; hinges; pins; shafts); wheels and casters; door stops, brackets, and supports; steam boilers; steam separators; dosing pumps; axial fan heaters; mechanical spacers and standoffs; bronze water strainers; air and steam filters and filter assemblies; filter gaskets; sterilizer cleaning equipment; thermal printers; printer take-up rolls; brass, bronze, and stainless steel check valves; valves (safety; needle; pneumatic); steam traps; electrical adapters for valves; bearings and bearing assemblies (thrust; eccentric; sleeve); bearing races; polytetrafluoroethylene bearings; Woodruff keys; audible and visual alarms; variable resistors; arc suppressors; relays; electrical conduits; power supplies; switch panels; flash memories; wire harnesses; sensors (flow; level); pressure sensors and gauges; timers; warming shelves; arms for lighting (spring mounting; suspension; extension); ceiling light pendants; light-emitting diode surgical lights; computer screen fixtures; and, installation and operation manuals (duty rate ranges from duty-free to 9.9%, and from 15¢ each + 4% + 2.5¢/jewel to 45¢ each + 6.4% + 2.5¢/jewel). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is August 22, 2023.

A copy of the notification will be available for public inspection in the “Online FTZ Information System” section of the Board's website.

For further information, contact Juanita Chen at juanita.chen@trade.gov.

Dated: July 10, 2023.
Elizabeth Whiteman,
Executive Secretary.

[FR Doc. 2023-14876 Filed 7-12-23; 8:45 am]

BILLING CODE 3510-DS-P